DEPARTMENT OF JUSTICE

Antitrust Division

Notice Pursuant to the National Cooperative Research and Production Act of 1993—Consortium for NASGRO Development and Support, (NASGRO)

Notice is hereby given that, on September 17, 2025, pursuant to section 6(a) of the National Cooperative Research and Production Act of 1993, 15 U.S.C. 4301 et seq. (“the Act”), Southwest Research Institute—Cooperative Research Group on Consortium for NASGRO Development and Support (“NASGRO”) has filed written notifications simultaneously with the Attorney General and the Federal Trade Commission disclosing changes in its membership. The notifications were filed for the purpose of extending the Act's provisions limiting the recovery of antitrust plaintiffs to actual damages under specified circumstances. Specifically, Northrup Grumman Systems Corporation, Melbourne, FL; Relativity Space, Long Beach, CA; and Honda Aero LLC, Burlington, NC, have been added as parties to this venture.

Also, Sikorsky Aircraft Corporation, Stratford, CT; Spirit AeroSystems, Inc., Wichita, KS; and Sierra Space Corporation, Louisville, CO, have withdrawn as parties to this venture.

In addition, Raytheon Technologies Corporation, Waltham, MA, has changed its name to RTX Corporation, Arlington, VA.

No other changes have been made in either the membership or planned activity of the group research project. Membership in this group research project remains open, and NASGRO intends to file additional written notifications disclosing all changes in membership.

On October 3, 2001, NASGRO filed its original notification pursuant to section 6(a) of the Act. The Department of Justice published a notice in the Federal Register pursuant to section 6(b) of the Act on January 22, 2002 (67 FR 2910).

The last notification was filed with the Department on February 1, 2024. A notice was published in the Federal Register pursuant to section 6(b) of the Act on June 28, 2024 (89 FR 54043).

Suzanne Morris,
Deputy Director Civil Enforcement Operations, Antitrust Division.

[FR Doc. 2026-03513 Filed 2-20-26; 8:45 am]

BILLING CODE P